DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of October 5, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation (Acting), Department of Homeland Security, Federal Emergency Management Agency.

Community | Community map repository address
Bartow County, Georgia and Incorporated Areas
Docket No.: FEMA-B-1718
City of Adairsville | City Hall, 116 Public Square, Adairsville, GA 30103.
City of Cartersville | Planning and Zoning Department, 10 North Public Square, Cartersville, GA 30120.
City of Emerson | City Hall, 700 Highway 293, Emerson, GA 30137.
City of Euharlee | City Hall, 30 Burge's Mill Road, Euharlee, GA 30145.
City of Kingston | City Hall, 30 West Main Street, Kingston, GA 30145.
City of Taylorsville | Mayor's Office, 11 Euharlee Street, Taylorsville, GA 30178.
City of White | City Hall, 29 West Rocky Street, White, GA 30184.
Unincorporated Areas of Bartow County | Bartow County Engineering Department, 135 West Cherokee Avenue, Suite 124, Cartersville, GA 30120.
Cobb County, Georgia and Incorporated Areas
Docket No.: FEMA-B-1718
City of Acworth | City Hall, 4415 Senator Russell Avenue, Acworth, GA 30101.
City of Kennesaw | Public Works Department, 3080 Moon Station Road, Kennesaw, GA 30144.
City of Marietta | Public Works Department, 205 Lawrence Street, Marietta, GA 30060.
City of Smyrna | City Engineer's Office, Public Works Complex, 2190 Atlanta Road, Smyrna, GA 30080.
Unincorporated Areas of Cobb County | Cobb County Water System Stormwater Management, 680 South Cobb Drive, Marietta, GA 30060.
Jasper County, Iowa and Incorporated Areas
Docket No.: FEMA-B-1723
City of Colfax | City Hall, 19 East Howard Street, Colfax, IA 50054.
City of Kellogg | City Clerk's Office, 224 High Street, Kellogg, IA 50135.
City of Lynnville | City Hall, 308 East Street, Lynnville, IA 50153.
City of Mingo | City Hall, 100 North Station Street, Mingo, IA 50168.
City of Monroe | City Hall, 206 West Sherman Street, Monroe, IA 50170.
City of Newton | Public Works Building, 1700 North 4th Avenue West, Newton, IA 50208.
City of Prairie City | City Hall, 203 East Jefferson Street, Prairie City, IA 50228.
City of Reasnor | City Hall, 312 North Street, Reasnor, IA 50232.
City of Valeria | Valeria City Hall, 13922 Center Street, Colfax, IA 50054.
Unincorporated Areas of Jasper County | Jasper County Planning and Zoning Department, 115 North 2nd Avenue East, Newton, IA 50208.
Franklin Parish, Louisiana and Incorporated Areas
Docket No.: FEMA-B-1709
City of Winnsboro | City Hall, Mayor's Office, 3814 Front Street, Winnsboro, LA 71295.
Town of Wisner | Mayor's Office, 9530 Natchez Street, Wisner, LA 71378.
Unincorporated Areas of Franklin Parish | Franklin Parish, Court House, Police Jury Office, 6558 Main Street, Winnsboro, LA 71295.
Village of Baskin | Mayor's Office, 1325 Highway 15, Baskin, LA 71219.
Village of Gilbert | Mayor's Office, 7564 Gilbert Street, Gilbert, LA 71336.
West Carroll Parish, Louisiana and Incorporated Areas
Docket No.: FEMA-B-1709
Town of Oak Grove | Town Hall, 407 East Main Street, Oak Grove, LA 71263.
Unincorporated Areas of West Carroll Parish | West Carroll Parish Office of Homeland Security and Emergency Preparedness, 310 Skinner Lane, Oak Grove, LA 71263.
Village of Epps | Epps Town Hall, 120 Maple Street, Epps, LA 71237.
Village of Forest | Forest Community Center, 137 Walnut Street, Forest, LA 71242.
Village of Kilbourne | Village Hall, 125 Carnell Street, Kilbourne, LA 71253.
Village of Pioneer | Village Hall, 318 Cherry Street, Pioneer, LA 71266.
Lincoln County, Missouri and Incorporated Areas
Docket No.: FEMA-B-1710
City of Moscow Mills | City Hall, 995 Main Street, Moscow Mills, MO 63362.
City of Troy | City Hall, 800 Cap Au Gris Street, Troy, MO 63379.
Unincorporated Areas of Lincoln County | Lincoln County Offices, 250 West College Street, Troy, MO 63379.

[FR Doc. 2018-12738 Filed 6-13-18; 8:45 am]

BILLING CODE 9110-12-P